DEPARTMENT OF TRANSPORTATION

Federal Highway Administration

Notice of Final Federal Agency Actions on Proposed Highway in Washington

AGENCY: Federal Highway Administration (FHWA), DOT.

ACTION: Notice of limitation on claims for judicial review of actions by FHWA and other Federal agencies.

SUMMARY: This notice announces actions taken by FHWA and other Federal agencies that are final within the meaning of 23 U.S.C. 139(l)(1). The actions relate to the proposed I-405, SR 169 to I-90, Renton to Bellevue Project (the Project) located in Renton, Newcastle, Bellevue and King County in the State of Washington. These actions grant licenses, permits, and approvals for the Project.

DATES: By this notice, FHWA is advising the public of final agency actions subject to 23 U.S.C. 139(l)(1). A claim seeking judicial review of the Federal agency actions on any of the listed highway projects will be barred unless the claim is filed on or before June 22, 2009. If the Federal law that authorizes judicial review of a claim provides a time period of less than 180 days for filing such claim, then that shorter time period still applies.

FOR FURTHER INFORMATION CONTACT: Peter A. Jilek, Urban Area Engineer, Federal Highway Administration, 711 S. Capitol Way #501, Olympia, Washington, 98501; telephone: (360) 753-9480; and e-mail: pete.jilek@dot.gov. The FHWA Washington Division's Urban Area Engineer's regular office hours are between 7 a.m. and 4 p.m. (Pacific Time). You may also contact William Jordan, I-405 Environmental Manager, Washington State Department of Transportation, 600-108th Avenue NE., Suite 405, Bellevue, Washington 98004; telephone: (425) 456-8547; and e-mail: william.jordan@i405.wsdot.wa.gov. The I-405 Corridor Program's regular office hours are between 8 a.m. and 5 p.m. (Pacific Time).

SUPPLEMENTARY INFORMATION: Notice is hereby given that FHWA and other Federal agencies have taken final agency actions by issuing licenses, permits, and approvals for the following highway project in the State of Washington: I-405, SR 169 to I-90, Renton to Bellevue Project. The Project extends approximately eight miles along I-405 (milepost 3.8 to milepost 11.9) from SR 169 north to the northern on- and off-ramps of the I-90 interchange. The Project includes two new southbound general-purpose (GP) lanes on I-405 throughout the project length; two new northbound GP lanes from SR 169 to 112th Avenue SE, with one new GP lane continuing north to I-90; a new auxiliary lane from 112th Avenue SE to Coal Creek Parkway; realignment of eight interchanges; a new in-line bus rapid transit station near 112th Avenue SE; a new high-occupancy vehicle direct-access ramp at N 8th Street; changes to several local roadways; and stormwater management facilities.

These actions by the Federal agencies, and the laws under which such actions were taken, are described in the March 2006 Environmental Assessment (EA) and in the November 20, 2008 Finding of No Significant Impact (FONSI) and Programmatic Section 4(f) Evaluation, and in other documents in the FHWA administrative record. The EA, FONSI, and other documents in the FHWA administrative record are available by contacting FHWA or WSDOT at the addresses provided above. The EA can be viewed and downloaded from the project Web site at: http://www.wsdot.wa.gov/projects/i405/rentontobellevue or viewed at public libraries in the project area. Since Federal funding is not currently available for this project, an FHWA project number has not been established.

This notice applies to all Federal agency decisions on the project as of the issuance date of this notice and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: December 17, 2008.
Peter A. Jilek,
Urban Area Engineer, Olympia, Washington.

[FR Doc. E8-30479 Filed 12-22-08; 8:45 am]

BILLING CODE 4910-22-P